NATIONAL AERONAUTICS AND SPACE ADMINISTRATION

[Notice: (23-038)]

NASA Advisory Council; Human Exploration and Operations Committee; and Technology, Innovation and Engineering Committee; Joint Meeting

AGENCY: National Aeronautics and Space Administration.

ACTION: Notice of meeting.

SUMMARY: In accordance with the Federal Advisory Committee Act, as amended, the National Aeronautics and Space Administration (NASA) announces a joint meeting of the Human Exploration and Operations Committee, and the Technology, Innovation and Engineering Committee, of the NASA Advisory Council (NAC). These two committees report to the NAC.

DATES: Monday, May 15, 2023, 1:35 p.m. to 5:30 p.m., Eastern Time.

ADDRESSES: Public attendance will be virtual. Webex and dial-in information is below under SUPPLEMENTARY INFORMATION.

FOR FURTHER INFORMATION CONTACT: Dr. Bette Siegel, Designated Federal Officer, Human Exploration and Operations Committee, NASA Headquarters, Washington, DC 20546, via email at bette.siegel@nasa.gov or (202) 358-2245; and Mr. Mike Green, Designated Federal Officer, Technology, Innovation and Engineering Committee, NASA Headquarters, Washington, DC 20546, via email at g.m.green@nasa.gov or (202) 358-4710.

SUPPLEMENTARY INFORMATION: As noted above, this meeting will be open to the public via Webex and telephonically. Webex and dial-in connectivity information is provided below. For audio, when you join the Webex event, you may use your computer or provide your phone number to receive a call back, otherwise, call the U.S. toll conference number listed.

On Monday, May 15, the event address for attendees is: https://nasaenterprise.webex.com/nasaenterprise/j.php?MTID=m993f1ef3f411afec52f184f041a63f63.

The event number is 2764 745 8303 and the event password is pMeATbJ@282. If needed, the U.S. toll conference number is 1-929-251-9612 or 1-415-527-5035 and access code is 2764 745 8303.

The agenda for the meeting includes the following topics:

• Transitioning and infusing technologies into Artemis Missions.

• Update on In-Situ Resource Utilization (ISRU) investments.

• Update on Nuclear investments.

It is imperative that this meeting be held on this day to accommodate the scheduling priorities of the key participants.

Patricia Rausch,
Advisory Committee Management Officer, National Aeronautics and Space Administration.

[FR Doc. 2023-09506 Filed 5-3-23; 8:45 am]

BILLING CODE 7510-13-P